DEPARTMENT OF THE INTERIOR

Bureau of Land Management

[WO-220-1020-JH-24 1A]

Extension of Approved Information Collection, OMB Control Number 1004-0019

AGENCY: Bureau of Land Management, Interior.

ACTION: Notice and request for comments.

SUMMARY: In accordance with the Paperwork Reduction Act of 1995, the Bureau of Land Management (BLM) is requesting the Office of Management and Budget (OMB) to extend an existing approval to collect information from individuals, households, farms, or businesses interested in cooperating with the BLM in constructing or maintaining rangeland improvement projects to aid handling and caring for domestic livestock that BLM authorizes to graze on public land. BLM uses Form 4120-7, Application and Approval for Range Improvement Permit, to collect this information. This information allows the BLM to review the application and to make a decision on the proposed rangeland improvement project.

DATES: You must submit your comments to BLM at the address below on or before April 8, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0019” and your name and return address in your Internet message.

You may deliver comments to the Bureau of Land Management, Administrative Record, Room 401, 1620 L Street, NW., Washington, DC.

All comments will be available for public review at the L Street address during regular business hours (7:45 a.m. to 4:15 p.m.) Monday through Friday.

FOR FURTHER INFORMATION CONTACT: You may contact Ken Visser on (202) 452-7743 (Commercial or FTS). Persons who use a telecommnication device for the deaf (TDD) may call the Federal Information Relay Service (FIRS) on 1-800-877-8330, 24 hours a day, seven days a week, to contact Mr. Visser.

SUPPLEMENTARY INFORMATION: 5 CFR 1320.12(a) requires that we provide a 60-day notice in the Federal Register concerning a collection of information to solicit comments on:

(a) Whether the collection of information is necessary for the proper functioning of the agency, including whether the information will have practical utility;

(b) the accuracy of our estimates of the information collection burden, including the validity of the methodology and assumptions we use;

(c) ways to enhance the quality, utility, and clarity of the information collected; and

(d) ways to minimize the information collection burden on those who are to respond, including the use of appropriate automated, electronic, mechanical, or other technological collection techniques or other forms of information technology.

The Taylor Grazing Act (TGA) of 1934 (43 U.S.C. 315 et seq.) and the Federal Land Policy and Management Act (FLMPA) of 1976 (43 U.S.C. 1701 et seq.) provide the authority for the BLM to administer the livestock grazing program consistent with land use plans, multiple use objectives, sustained yield, environmental values, economic considerations, and other factors. Sections 4 and 15 of the TGA and the regulation at 43 CFR 4120.3-3 allow permittees the opportunity to construct and maintain rangeland improvements on the public lands. Applicants must submit Form 4120-7, Application and Approval for Range Improvement Permit, to request rangeland improvement projects. BLM authorizes rangeland improvement projects to facilitate handling livestock while they are using public lands as an important and integral part of grazing use administration. BLM uses the information the permittees and lessees provide to:

(1) Review requests for privately funded rangeland improvement projects for compatibility with multiple use objectives and land use plans;

(2) Develop appropriate conditions and specifications; and

(3) Approve or reject the applications.

We use the name and address to determine if the applicant is a grazing permittee in compliance with 43 CFR 4120.3-3(a). Applicants also specify if they will construct a new improvement or obtain a permit to maintain an existing improvement. The applicant must briefly state a purpose or justification to determine the compatibility of proposed use with multiple use plans. The applicant identifies the specific location to determine land ownership and if needed, provides a plat to delineate linear improvements such as fences or pipelines.

Because of the variations in size and complexity of rangeland improvement projects, BLM estimates it takes 20 minutes to complete the required information. We estimate 60 responses per year and a total annual burden of 20 hours.

BLM will summarize all responses to this notice and include them in the request for OMB approval. All comments will become a matter of public record.

Dated: February 3, 2003.
Michael H. Schwartz,
Bureau of Land Management, Information Collection Clearance Officer.

[FR Doc. 03-3011 Filed 2-6-03; 8:45 am]

BILLING CODE 4310-84-M